DEPARTMENT OF DEFENSE

Department of the Army; Corps of Engineers

North Atlantic Coast Comprehensive Study

AGENCY: Department of the Army, U.S. Army Corps of Engineers, DoD.

ACTION: Notice of Study Initiation.

SUMMARY: The Congressional response to the devastation in the wake of Hurricane Sandy included a mandate to collaborate with federal, state, tribal and local government agencies to regionally address the vulnerability of coastal populations at risk within the boundaries of the U.S. Army Corps of Engineers (USACE) North Atlantic Division. The goals of the North Atlantic Coast Comprehensive Study authorized under the Disaster Relief Appropriations Act, Public Law 113-2, are to (1) reduce flood risk to vulnerable coastal populations, and (2) promote coastal resilient communities to ensure a sustainable and robust coastal landscape system, considering future sea-level rise and climate change scenarios. In addition, the Comprehensive Study will identify activities warranting further analysis and institutional barriers to comprehensive implementation. A draft of the North Atlantic Coast Comprehensive Study will be available for public review and comment in early 2014 and a final report is due to Congress in January 2015. The study will identify those areas warranting more detailed evaluations; however, USACE is not authorized to develop designs or implement such projects at this time. Although potential environmental impacts will be generally evaluated, National Environmental Policy Act (NEPA) compliance processes will not be completed due to the scale of the study. Full NEPA and other environmental compliance would be required as part of future detailed evaluations before any actions could be implemented.

ADDRESSES: For media contacts please contact Mr. Justin Ward, U.S. Army Corps of Engineers, Public Affairs, 302 General Lee Avenue, Brooklyn, NY 11252, at justin.m.ward@usace.army.mil or at (347) 370-4550.

FOR FURTHER INFORMATION CONTACT: Mr. Justin Ward, U.S. Army Corps of Engineers, Public Affairs.

SUPPLEMENTARY INFORMATION: The North Atlantic Coast Comprehensive Study will include a coastal risk reduction framework, by State, including a range of structural, non-structural and programmatic measures for approximately 31,000 miles of shore and coastline, planning level cost estimates and anticipated risk reduction and benefits per measure. The Comprehensive Study will also include storm suite modeling, coastal GIS analyses, economic evaluations, an assessment of green infrastructure and ecosystem goods and services, regional sediment management and climate change and sea-level rise considerations. Additional information and a study area map may be found at: http://www.nad.usace.army.mil/CompStudy. Furthermore, interested parties can access the Web site and subscribe to receive periodic electronic mail updates on the study's progress.

Dated: June 11, 2013.
Amy M. Guise,
Chief, Planning Division, Baltimore District, U.S. Army Corps of Engineers.

[FR Doc. 2013-14561 Filed 6-18-13; 8:45 am]

BILLING CODE 3710-58-P